DEPARTMENT OF COMMERCE

National Oceanic and Atmospheric Administration

South Atlantic Fishery Management Council (SAFMC); Public Meeting

AGENCY: National Marine Fisheries Service (NMFS), National Oceanic and Atmospheric Administration (NOAA), Commerce.

ACTION: Notice of public meetings.

SUMMARY: The South Atlantic Fishery Management Council (Council) will hold meetings of the: Protected Resources Committee; Joint Dolphin Wahoo and Snapper Grouper Committees; Advisory Panel Selection Committee (Partially Closed Session); Southeast Data, Assessment and Review (SEDAR) Committee (Partially Closed Session); Law Enforcement Committee; Snapper Grouper Committee; King and Spanish Mackerel Committee; Data Collection Committee; Executive Finance Committee; and a meeting of the Full Council. The Council will also hold a meeting of its Law Enforcement Advisory Panel. The Council will also hold a formal public comment session. The Council will take action as necessary.

DATES: The Council meeting will be held from 1:30 p.m. on Monday, March 7, 2016 until 12 p.m. on Friday, March 11, 2016.

ADDRESSES:

Meeting address: The meeting will be held at the Westin Jekyll Island, 110 Ocean Way, Jekyll Island, GA; phone: (888) 627-8316 or (912) 635-4545; fax: (912) 319-2838.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The items of discussion in the individual meeting agendas are as follows:

Law Enforcement Advisory Panel Meeting, Monday, March 7, 2016, 1:30 p.m. until 5 p.m. and 8:30 a.m. until 12 p.m., Tuesday, March 8, 2016—Concurrent Sessions

1. The Law Enforcement Advisory Panel (AP) will receive updates on developing and recently implemented amendments and provide recommendations as appropriate. The AP will discuss enforcement of new fillet regulations, proposed hogfish regulations, proposed for-hire reporting regulations, size and bag limit compliance in the South Atlantic Region, enforceability of Marine Protected Areas and Spawning Special Management Zones, review the System Management Plans for each and provide recommendations as appropriate. The AP will also discuss Turtle Excluder Device compliance in the shrimp fishery and provide recommendations. The AP will elect a new chair and vice chair during its meeting.

Protected Resources Committee, Monday, March 7, 2016, 1:30 p.m. until 2:30 p.m.

1. The Committee will receive updates on Protected Resources issues and the Right Whale Critical Habitat Final Rule and provide recommendations as appropriate.

2. The Committee will review the Endangered Species Act (ESA) and Magnuson-Stevens Act (MSA) Integration Agreement, discuss the agreement and provide recommendations relative to its approval. The Committee will also receive an update on issues relative to Protected Resources involving the Atlantic States Marine Fisheries Commission and the U.S. Fish and Wildlife Service and provide recommendations as appropriate.

Joint Dolphin Wahoo and Snapper Grouper Committees, Monday, March 7, 2016, 2:30 p.m. until 5 p.m.

1. The Committee will receive status updates from NOAA Fisheries on commercial and recreational catches versus annual catch limits (ACLs) for dolphin and wahoo and amendments currently under Secretarial review.

2. The Committee will receive an overview of Amendment 10 to the Dolphin Wahoo Fishery Management Plan (FMP)/Amendment 44 to the Snapper Grouper FMP addressing allocations for dolphin and yellowtail snapper and provide recommendations.

Advisory Panel Selection Committee (Partially Closed Session), Tuesday, March 8, 2016, 8:30 a.m. until 10 a.m.

1. The Committee will receive an overview of the non-government organization representation on species-specific advisory panels, discuss term limits, and other policy issues, and provide recommendations as appropriate.

2. The Committee will review applications for open advisory panel seats and provide recommendations as appropriate (Closed Session).

SEDAR Committee (Partially Closed Session), Tuesday, March 8, 2016, 10 a.m. until 12 p.m.

1. The Committee will recommend participants for the upcoming Blueline Tilefish Stock Identification Workshop (Closed Session).

2. The Committee will discuss the Blueline Tilefish Stock Assessment schedule and receive updates on SEDAR projects.

Law Enforcement Committee, Tuesday, March 8, 2016, 1:30 p.m. until 2:30 p.m.

1. The Committee will review recommendations from the Law Enforcement Advisory Panel and take action as appropriate.

Snapper Grouper Committee, Tuesday, March 8, 2016, 2:30 p.m. until 5 p.m. and Wednesday, March 9, 2016, 8:30 a.m. until 5:30 p.m.

1. The Committee will receive updates from NOAA Fisheries on the status of commercial and recreational catches versus quotas for species under ACLs, and the status of amendments currently under Secretarial review.

2. The Committee will receive a presentation on the results of a black sea bass pot selectivity study conducted by Dr. Paul Rudershausen, discuss and take action as appropriate.

3. The Committee will receive a report from its Scientific and Statistical Committee.

4. The Committee will receive an overview of Snapper Grouper Amendment 37 addressing measures for hogfish, consider public hearing comments, modify the document as appropriate, select preferred alternatives and approve all actions.

5. The Committee will review Snapper Grouper Amendment 41 addressing management measures for mutton snapper, consider public scoping comments, modify the document as appropriate and provide guidance to staff.

6. The Committee will receive an overview of the System Management Plan for Deepwater Marine Protected Areas, modify the document as necessary and approve the plan.

7. The Committee will review the Oculina Review Report, modify the report as necessary and approve the report.

8. The Committee will review Snapper Grouper Amendment 36 to establish Spawning Special Management Zones (SMZs) and the System Management Plan for Spawning SMZs, modify the document as necessary, and provide recommendations for approval for Secretarial Review.

9. The Committee will receive an overview of management items to be considered in developing Snapper Grouper Amendment 43 addressing red snapper, discuss and provide direction to staff.

10. The Committee will receive a summary of prioritized action items for development of the draft Fisheries Seasonality/Retention Regulatory Amendment, discuss and provide direction to staff.

Formal Public Comment, Wednesday, March 9, 2016, 5:30 p.m.—Public comment will first be accepted on items before the Council for final action: Snapper Grouper Amendment 36 (Spawning Special Management Zones), the Marine Protected Area System Management Plan, the Oculina Review Report, the ESA/MSA Integration Agreement, and Coastal Migratory Pelagic Amendment 26 (king mackerel measures). Public comment will then be accepted on any other items on the Council agenda. The Council Chair, based on the number of individuals wishing to comment, will determine the amount of time provided to each commenter.

King and Spanish Mackerel Committee, Thursday, March 10, 2016, 8:30 a.m. until 10 a.m.

1. The Committee will receive a report from NOAA Fisheries on the recreational and commercial catches versus ACLs, a report from the Gulf of Mexico Fishery Management Council meeting, and a report from the King and Spanish Mackerel Advisory Panel.

2. The Committee will receive an overview of Amendment 26 to the Coastal Migratory Pelagic FMP addressing modifications to management boundaries, ACLs, allocations, and other management measures, consider public hearing comments, modify the document as appropriate, select preferred alternatives, and provide recommendations for approval for Secretarial review.

3. The Committee will also receive an overview of Atlantic cobia landings and the adjustments to the recreational season lengths, and a presentation on the 2016 recreational season for Atlantic cobia from NOAA Fisheries, discuss options for developing a framework amendment for cobia, and provide direction to staff.

Data Collection Committee, Thursday, March 10, 2016, 10 a.m. until 2:30 p.m.

1. The Committee will receive a report from NOAA Fisheries on Bycatch Monitoring and provide direction to staff.

2. The Committee will receive an update on the Commercial Logbook Pilot Study from NOAA Fisheries, discuss and take action as appropriate.

3. The Committee will receive an overview of the Implementation Plan for Commercial Logbook Electronic Reporting, the status of eTrips, discuss and provide direction to staff.

4. The Committee will also receive an overview of the Atlantic For-Hire Reporting Amendment, a demonstration of the South Carolina Department of Natural Resources' Electronic For-Hire Logbook reporting process, review public hearing input, discuss and modify the document as appropriate and approve all actions.

5. The Committee will receive an update on the Council's Citizen Science Workshop, an overview of the draft Citizen Science Blueprint, discuss and take action as appropriate.

Executive Finance Committee, Thursday, March 10, 2016, 2:30 p.m. until 3:30 p.m.

1. The Committee will receive an update on the Calendar Year (CY) 2015 budget expenditures, the Draft Activity Schedule, the Status of the CY 2016 budget, and the Council Follow-up and priorities, and take action as appropriate.

2. The Committee will discuss standards and procedures for participating in Council webinar meetings, receive a report from the Council Coordinating Committee meeting, address other issues, and take action as appropriate.

Council Session: Thursday, March 10, 2016, 3:45 p.m. until 5 p.m. and Friday, March 11, 2016, 8:30 a.m. until 12 p.m.

Council Session: March 10, 2016

3:45-4 p.m.: Call the meeting to order, adopt the agenda, and approve the December 2015 meeting minutes.

4-5 p.m.: The Council will receive a report from the Snapper Grouper Committee, approve/disapprove Snapper Grouper Amendment 36 (Spawning Special Management Zones) for formal Secretarial Review; approve/disapprove the Oculina Review Report, and approve/disapprove the System Management Plan for Marine Protected Areas. The Council will consider other Committee recommendations and take action as appropriate.

Council Session: March 11, 2016

8:30-9 a.m.: The Council will receive a report from the Mackerel Committee, approve/disapprove Amendment 26 to the Coastal Migratory Pelagics FMP for formal Secretarial review, consider other Committee recommendations, and take action as appropriate.

9-9:10 a.m.: The Council will receive a report from the Law Enforcement Committee, consider recommendations and take actions as appropriate.

9:10-9:30 a.m.: The Council will receive a report from the Joint Dolphin Wahoo and Snapper Grouper Committees, consider recommendations and take action as appropriate.

9:30-9:40 a.m.: The Council will receive a report from the Protected Resources Committee, approve/disapprove the ESA/MSA Integration Agreement, consider other recommendations and take action as appropriate.

9:40-9:50 a.m.: The Council will receive a report from the SEDAR Committee, consider Committee recommendations and take action as appropriate.

9:50-10 a.m.: The Council will receive a report from the Data Collection Committee, consider Committee recommendations and take action as appropriate.

10-10:10 a.m.: The Council will receive a report from the AP Selection Committee, consider committee recommendations and take action as appropriate.

10:10-10:30 a.m.: The Council will receive a report from the Executive Finance Committee, approve the Council activity schedule, approve the Council Follow-Up and Priorities, consider other Committee recommendations and take action as appropriate.

10:30-12 noon: The Council will receive a presentation on proposed scoping measures for the Monitor National Marine Sanctuary, status reports from NOAA Fisheries Southeast Regional Office and the Southeast Fisheries Science Center; review and develop recommendations on Experimental Fishing Permits as necessary; receive agency and liaison reports; and discuss other business and upcoming meetings.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: February 16, 2016.
Tracey L. Thompson,
Acting Deputy Director, Office of Sustainable Fisheries, National Marine Fisheries Service.

[FR Doc. 2016-03470 Filed 2-18-16; 8:45 am]

BILLING CODE 3510-22-P